FEDERAL COMMUNICATIONS COMMISSION

Federal-State Joint Board on Universal Service To Convene an Open Meeting

AGENCY: Federal Communications Commission.

ACTION: Announcement of meeting.

SUMMARY: The Federal-State Joint Board on Universal Service will hold an open meeting to address issues related to high-cost universal service support.

DATES: The meeting will be held on Monday, March 6, 2000, from 4 p.m. to 5 p.m.

ADDRESSES: This meeting will be held in the Federal Communications Commission Building, Commission Meeting Room, located at 445 12th Street, SW, Washington, DC 20554.

FOR FURTHER INFORMATION CONTACT: Gene Fullano, (202) 418-7400.

Dated: February 29, 2000.
Irene M. Flannery,
Chief, Accounting Policy Division.

[FR Doc. 00-5291 Filed 3-2-00; 10:35 am]

BILLING CODE 6712-01-P